FEDERAL COMMUNICATIONS COMMISSION

Sunshine Act Meeting; Open Commission Meeting; Thursday, May 24, 2012

Date: May 17, 2012.

The Federal Communications Commission will hold an Open Meeting on the subjects listed below Thursday, May 24, 2012, which is scheduled to commence at 10:30 a.m. in Room TW-C305, at 445 12th Street SW., Washington, DC. Then Commissions is waving the sunshine period prohibition contained in section 1.1203 of the Commission's rule, 47 CFR 1.1203, until 5:00 p.m. on Friday, May 18, 2012. Thus presentation with respect to the items listed below will be permitted until that time.

Item Nos. | Bureau | Subject
1 | Public Safety and Homeland Security | Title: Utilizing Rapidly Deployable Aerial Communications Architecture in Response to an Emergency (PS Docket No. 11-15)
|  | Summary: The Commission will consider a Notice of Inquiry examining the role of deployable aerial communications architecture (DACA) in facilitating emergency response by rapidly restoring communications capabilities in the immediate aftermath of a catastrophic event.
2 | Office of Engineering and Technology | Title: Amendment of the Commission's Rules to Provide for the Operation of Medical Body Area Networks (ET Docket No. 08-59)
|  | Summary: The Commission will consider a Report and Order and Further Notice of Proposed Rulemaking to establish service rules and an allocation for Medical Body Area Networks and seek comment on the selection of an MBAN coordinator.
3 | Wireless Tele-Communications | Title: Improving Spectrum Efficiency Through Flexible Channel Spacing and Bandwidth Utilization for Economic Area-based 800 MHz Specialized Mobile Radio Licensees (WT Docket No. 12-64); Request for Declaratory Ruling that the Commission's Rules Authorize Greater than 25 kHz Bandwidth Operations in the 817-824/862-869 MHz Band (WT Docket No. 11-110)
|  | Summary: The Commission will consider a Report and Order that will provide EA-based 800 MHz licensees with the flexibility to better utilize spectrum to transition networks from legacy 2G technologies to advanced wireless technologies.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director

[FR Doc. 2012-12543 Filed 5-18-12; 4:15 pm]

BILLING CODE 6712-01-P